DEPARTMENT OF ENERGY

Federal Energy Regulatory Commission

[Docket No. CP96-810-009]

Maritimes & Northeast Pipeline, LLC; Notice of Application

April 13, 2009.

Take notice that on April 8, 2009, Maritimes & Northeast Pipeline, LLC (Maritimes), 890 Winter Street, Suite 300, Waltham, Massachusetts 02451, filed an application in Docket No. CP96-810-009 pursuant to section 3 of the Natural Gas Act (NGA), seeking an amendment to its authorization under NGA section 3 and its Presidential Permit to allow it to export natural gas from the United States to Canada utilizing Maritimes' existing cross-border facilities. Maritimes proposes no new facilities in its application. The full design capacity of the cross-border facilities is 833,317 dekatherms per day plus the quantity necessary for system fuel requirements.

Any questions regarding the applications should be directed to Garth Johnson, General Manager, Certificates and Reporting, M&N Management Company, 5400 Westheimer Court, P.O. Box 1642, Houston, Texas 77251-1642.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests and interventions in lieu of paper using the eFiling link at http://www.ferc.gov. Persons unable to file electronically should submit an original and 14 copies of the protest or intervention to the Federal Energy Regulatory Commission, 888 First Street, NE., Washington, DC 20426.

This filing is accessible on-line at http://www.ferc.gov, using the eLibrary link and is available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Comment Date: May 4, 2009.

Kimberly D. Bose,
Secretary.

[FR Doc. E9-8959 Filed 4-17-09; 8:45 am]

BILLING CODE 6717-01-P